DEPARTMENT OF JUSTICE

Office of Justice Programs

[OJP (OJJDP) Docket No. 1735]

Meeting of the Federal Advisory Committee on Juvenile Justice

AGENCY: Office of Juvenile Justice and Delinquency Prevention, Office of Justice Programs, Department of Justice.

ACTION: Notice of in-person meeting.

SUMMARY: The Office of Juvenile Justice and Delinquency Prevention (OJJDP) has scheduled an In-Person Meeting of the Federal Advisory Committee on Juvenile Justice (FACJJ).

DATES AND LOCATION: The Meeting will take place on Thursday, April 27, 2017 at 8:30 a.m.-5:00 p.m. Central Time and Friday, April 28, 2017 at 8:30 a.m.-1:00 p.m. Central Time. The meeting will take place in the main conference room at the Hotel Centric The Loop Chicago, 100 West Monroe Street, Chicago, Illinois 60603.

FOR FURTHER INFORMATION CONTACT: Visit the Web site https://facjj.ojjdp.gov or contact Jeff Slowikowski, Designated Federal Official, OJJDP, Jeff.Slowikowski@usdoj.gov or (202) 616-3646. [This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at https://facjj.ojjdp.gov.

Meeting Agenda: The proposed agenda includes: (a) Opening Introductions, and Meeting Logistics; (b) Remarks of the Administrator, OJJDP; (c) FACJJ Subcommittee Reports (Legislation; Transitioning Youth; Research/Publications; Confidentiality of Records); (d) FACJJ Administrative Business; (e) Summary, Next Steps, and Meeting Adjournment.

Registration: To register to attend the meeting in person or to view the webcast, members of the public must pre-register online at https://attendee.gotowebinar.com/register/143603403527271142 no later than Thursday, April 21, 2017. Upon registration, information will be sent to you at the email address you provide confirming your attendance and enabling you to connect to the webcast.

Note: The meeting space is limited and identification may be required for admission to the meeting.

Should problems arise with registration, contact Melissa Kanaya, Senior Program Manager/Federal Contractor, at 202-532-0121 or Melissa.Kanaya@usdoj.gov. Note that this is not a toll-free telephone number.

Written Comments: Interested parties may submit written comments by email message in advance to Jeff Slowikowski, Designated Federal Official, at Jeff.Slowikowski@usdoj.gov, no later than Friday, April 21, 2017. In the alternative, interested parties may fax comments to 202-307-2819 and contact Melissa Kanaya at 202-532-0121 to ensure that they are received. [These are not toll-free numbers.]

Eileen Garry,
Acting Administrator, Office of Juvenile Justice and Delinquency Prevention.

[FR Doc. 2017-06432 Filed 3-31-17; 8:45 am]

BILLING CODE 4410-18-P